DEPARTMENT OF JUSTICE

Notice of Lodging of Consent Decree Under the Clean Air Act

Notice is hereby given that on December 2, 2011, a proposed Consent Decree in United States v. Rentech Nitrogen, LLC, Civil Action No. 3:11-CV-50358, was lodged with the United States District Court for Northern District of Illinois.

The Consent Decree would resolve claims for injunctive relief and the assessment of civil penalties asserted by the United States (Plaintiff), against Rentech Nitrogen, LLC (Defendant) pursuant to Sections 113(b) and 167 of the Clean Air Act (“CAA”), 42 U.S.C. 7413(b) and 7477.

Defendant produces nitric acid, which is used in the production of ammonium nitrate and other fertilizers and explosives. The nitric acid process results in the emissions of regulated air pollutants, including nitrogen oxides (“NOX”). The Plaintiff's complaint, filed concurrently with the Consent Decree, alleges that Defendant violated the Prevention of Significant Deterioration (“PSD”) provisions of the CAA, 42 U.S.C. 7470-7492, and the implementing regulations at 40 CFR part 52; the New Source Performance Standards (“NSPS”) provisions of the CAA, 42 U.S.C. 7411, and the implementing regulations at 40 CFR part 60, subpart G; Title V of the CAA, 42 U.S.C. 7661 et seq.; and the State Implementation Plan for the State of Illinois promulgated pursuant to Section 110 of the CAA, 42 U.S.C. 7410, to the extent it incorporates and/or implements the above-listed federal requirements. Specifically, the complaint alleges that Defendant operated a nitric acid plant since inception without a required PSD permit and without using the best available control technology (“BACT”) required under the PSD regulatory framework. Additionally, the complaint alleges that Defendant's Title V operating permit is deficient for the same reason. Finally, the complaint alleges that Defendant exceeded emission limits for NOX, violating the NSPS.

The Consent Decree would require Defendants to achieve BACT level emissions for NOX, comply with the Nitric Acid NSPS, and incorporate these requirements into its Title V permit. The Consent Decree would also provide for a civil penalty of $108,000.

The Department of Justice will receive for a period of thirty (30) days from the date of this publication comment relating to the Consent Decree. Comments should be addressed to the Assistant Attorney General, Environment and Natural Resources Division, and either emailed to pubcomment-ees.enrd@usdoj.gov or mailed to P.O. Box 7611, U.S. Department of Justice, Washington, DC 20044-7611, and should refer to United States v. Rentech Nitrogen, LLC, D.J. Ref. No. 90-5-2-1-09773/1.

The Consent Decree may be examined at the United States Environmental Protection Agency, Ariel Rios Building, 1200 Pennsylvania Avenue NW., Washington, DC 20460. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $12.50 for a copy of the complete Consent Decree (25 cents per page reproduction cost), payable to the U.S. Treasury or, if by email or fax, forward a check in that amount to the Consent Decree Library at the stated address.

Maureen Katz,
Assistant Section Chief, Environmental Enforcement Section, Environment and Natural Resources Division.

[FR Doc. 2011-31520 Filed 12-7-11; 8:45 am]

BILLING CODE 4410-15-P